DEPARTMENT OF DEFENSE

Office of the Secretary

[Docket ID: DoD-2013-OS-0227]

Proposed Collection; Comment Request

AGENCY: Office of the Secretary of Defense, DoD.

ACTION: Notice.

SUMMARY: In compliance with Section 3506(c)(2)(A) of the Paperwork Reduction Act of 1995, the Defense Security Service (DSS) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 10, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: Defense Security Service, ATTN: Mr. Helmut Hawkins, Industrial Policy and Programs—A&E Division, 27130 Telegraph Road, Quantico, VA 22134.

SUPPLEMENTARY INFORMATION: Title; Associated Form; and OMB Number: Personnel Security Investigation Projection for Industry Survey; DSS Form 232; OMB Number 0704-0417.

Needs and Uses: Executive order (EO) 12829, “National Industrial Security Program (NISP),” stipulates that the Secretary of Defense shall serve as the Executive Agent for inspecting and monitoring the contractors, licensees, and grantees who require or will require access to classified information; and for determining the eligibility for access to classified information of contractors, licensees, and grantees and their respective employees. The Under Secretary of Defense for Intelligence assigned Defense Security Service (DSS) the responsibility for central operational management of DoD personnel security investigation (PSI) workload projections, and for monitoring of PSI funding and investigation quality issues for DoD components. This responsibility includes managing workload projections, along with funding and quality oversight matters related to PSIs conducted for employees and consultants of contractors cleared under the NISP. Prior to 2001, DSS compared historical PSI data for budget formulation. Since 2001, DSS conducted an annual survey of cleared contractors to more accurately assess personnel security and trustworthiness investigation requirements. In this annual collection of information, DSS asks the Facility Security Officers of cleared contractor entities to provide for each of three fiscal years (e.g., 2015, 2016, 2017): Projections of the numbers and types of personnel security investigations (PSIs) required; a description of methodology used for the projections; and estimates of the numbers and types of cleared contractor's PSI projections that are separately attributable to DoD contracts and the contracts of non-DoD agencies. The data will be incorporated into DSS's budget submissions and will be used to track against cleared contractors' actual PSI submissions.

The Office of Personnel Management (OPM) has responsibility for conducting PSIs and the subsequent periodic reinvestigations (PRs) in accordance with the Code of Federal Regulations, Title 5, Part 736.

Cleared contractors, representatives of various industry associations, the National Industrial Security Program Policy Advisory Committee (NISPPAC), various components of the Department of Defense (including the Military Departments) and other Federal Government agencies are familiar with the annual survey.

Affected Public: Business or other for profit; Not-for-profit institutions under Department of Defense Security Cognizance.

Annual Burden Hours: 17,801.

Number of Respondents: 13,351.

Responses per Respondent: 1.

Average Burden per Response: 80 minutes.

Frequency: Annually.

The execution of the DSS Form 232 is an essential element of DSS' ability to project the PSI needs of cleared contractor entities. This collection of information requests the assistance of the Facility Security Officer to provide projections of the numbers and types of PSIs. The data will be incorporated into DSS's budget submissions and used to track against actual PSI submissions. The form will be distributed electronically via a web-based commercial survey tool. The form will display OMB approval number 0704-0417.

Dated: December 5, 2013.
Aaron Siegel,
Alternate OSD Federal Register Liaison Officer, Department of Defense.

[FR Doc. 2013-29451 Filed 12-9-13; 8:45 am]

BILLING CODE 5001-06-P